DEPARTMENT OF COMMERCE

International Trade Administration

[A-570-010]

Certain Crystalline Silicon Photovoltaic Products From the People's Republic of China: Preliminary Results of Antidumping Duty Administrative Review; 2017-2018

AGENCY: Enforcement and Compliance, International Trade Administration, Department of Commerce.

SUMMARY: The Department of Commerce (Commerce) preliminarily determines that Sol-lite Manufacturing Company Limited (Sol-lite), Ri Shen Products (SZ) (Ri Shen), and Shenzhen Sungold Solar Co., Ltd. (Sungold) have not demonstrated their eligibility for a separate rate during the period of review (POR) February 1, 2017 through January 31, 2018.

DATES: Applicable March 6, 2019.

FOR FURTHER INFORMATION CONTACT: Jeff Pedersen, AD/CVD Operations, Office IV, Enforcement & Compliance, International Trade Administration, Department of Commerce, 1401 Constitution Avenue NW, Washington, DC 20230; telephone: (202) 482-2769.

SUPPLEMENTARY INFORMATION:

Background

Commerce published the notice of initiation of this review with respect to 12 companies/company groups on April 16, 2018.¹ On September 7, 2018, Commerce published a notice rescinding the review with respect to nine companies for which all review requests had been withdrawn.² The only three companies remaining under review are Sol-lite, Ri Shen, and Sungold. On October 19, 2018, Commerce postponed the preliminary results of this review until January 29, 2019.³ Subsequent to that postponement, Commerce exercised its discretion to toll all deadlines affected by the partial federal government closure from December 22, 2018, through the resumption of operations on January 29, 2019.⁴ If the new deadline falls on a non-business day, in accordance with Commerce's practice, the deadline will become the next business day. The revised deadline for the preliminary results decision is now March 11, 2019. For a complete description of the events that followed the initiation of this administrative review, see the Preliminary Decision Memorandum.⁵

¹ See Initiation of Antidumping and Countervailing Duty Administrative Reviews, 83 FR 16298 (April 16, 2018) (Initiation Notice).

² See Certain Crystalline Silicon Photovoltaic Products From the People's Republic of China: Notice of Partial Rescission of Antidumping Duty Administrative Review; 2017-2018, 83 FR 45417 (September 7, 2018) (Partial Rescission Notice).

³ See memorandum to James Maeder Associate Deputy Assistant Secretary for Antidumping and Countervailing Duty Operations performing the duties of Deputy Assistant Secretary for Antidumping and Countervailing Duty Operations, “Certain Crystalline Silicon Photovoltaic Products from the People's Republic of China: Extension of Deadline for Preliminary Results of Antidumping Duty Administrative Review” dated October 19, 2018.

⁴ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁵ See “Decision Memorandum for Preliminary Results of Antidumping Duty Administrative Review: Certain Crystalline Silicon Photovoltaic Products from the People's Republic of China; 2017-2018”, issued concurrently with and hereby adopted by this notice (Preliminary Decision Memorandum).

Scope of the Order

The merchandise covered by the order is modules, laminates and/or panels consisting of crystalline silicon photovoltaic cells, whether or not partially or fully assembled into other products, including building integrated materials.⁶ Merchandise covered by the order is currently classified in the Harmonized Tariff Schedule of the United States (HTSUS) under subheadings 8501.61.0000, 8507.20.8030, 8507.20.8040, 8507.20.8060, 8507.20.8090, 8541.40.60.15, 8541.40.6020, 8541.40.6030, 8541.40.60.35 and 8501.31.8000. These HTSUS subheadings are provided for convenience and customs purposes; the written description of the scope of the order is dispositive.

⁶ For a complete description of the scope of the order, see Preliminary Decision Memorandum.

Methodology

Commerce is conducting this administrative review in accordance with section 751(a)(1)(B) of the Tariff Act of 1930, as amended (the Act). For a full description of the methodology underlying the preliminary results of this review, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Preliminary Decision Memorandum can be accessed directly at http://enforcement.trade.gov/frn/. The signed and the electronic versions of the Preliminary Decision Memorandum are identical in content.

Preliminary Determination Regarding No Shipments Claim

Based on an analysis of U.S. Customs and Border Protection (CBP) information, we determine that Sungold, which claimed no exports, sales or entries of subject merchandise during the POR, did, in fact, ship subject merchandise to the United States during the POR. For additional information regarding this preliminary determination, see the Preliminary Decision Memorandum.

Separate Rates

In proceedings involving non-market economy (NME) countries, Commerce begins with a rebuttable presumption that all companies within the NME country are subject to government control and that a single weighted-average dumping margin (China-wide entity rate) is applicable to all exporters under review unless an exporter can demonstrate that it is sufficiently independent so as to be entitled to a separate rate. Sol-lite was selected as a mandatory respondent in the instant review, but failed to respond to Commerce's questionnaire. Sungold made shipments during the POR but did not file a separate rate certification. Ri Shen also did not file a separate rate certification. Therefore, Commerce preliminarily determines that neither Sol-lite, Ri Shen, nor Sungold is entitled to a separate rate and has treated them as part of the China-wide entity. Because no party requested a review of the China-wide entity, the entity is not under review and the entity's rate (i.e., 151.98 percent) is not subject to change in this review.⁷ For additional information regarding Commerce's separate rates determination, see the Preliminary Decision Memorandum.

⁷ See Certain Silicon Photovoltaic Products from the People's Republic of China: Antidumping Duty Order; and Amended Final Affirmative Countervailing Duty Determination and Countervailing Duty Order, 80 FR 8592 (February 18, 2015).

Public Comment

Interested parties may submit case briefs no later than 30 days after the date of publication of these preliminary results of review.⁸ Rebuttal briefs may be filed no later than five days after case briefs are due and may respond only to arguments raised in the case briefs.⁹ A table of contents, list of authorities used, and an executive summary of issues should accompany any briefs submitted to Commerce. The summary should be limited to five pages total, including footnotes.¹⁰

⁸ See 19 CFR 351.309(c)(ii).

⁹ See 19 CFR 351.309(d).

¹⁰ See 19 CFR 351.309(c)(2), (d)(2).

Interested parties who wish to request a hearing must submit a written request to the Assistant Secretary for Enforcement and Compliance, U.S. Department of Commerce, within 30 days after the date of publication of this notice.¹¹ Requests should contain the party's name, address, and telephone number, the number of participants that will attend, whether any participant is a foreign national, and a list of the issues to be discussed at the hearing. Oral arguments at the hearing will be limited to issues raised in case and rebuttal briefs. If a hearing is held, Commerce intends to hold the hearing at the U.S. Department of Commerce, 1401 Constitution Avenue NW, Washington, DC 20230, at a date and time to be determined.¹² Parties should confirm by telephone the date, time, and location of the hearing two days before the scheduled date of the hearing.

¹¹ See 19 CFR 351.310(c).

¹² See 19 CFR 351.310(d).

All submissions, with limited exceptions, must be filed electronically using ACCESS.¹³ An electronically filed document must be received successfully in its entirety by Commerce's electronic records system, ACCESS, by 5 p.m. Eastern Time (ET) on the due date. Documents excepted from the electronic submission requirements must be filed manually (i.e., in paper form) with the APO/Dockets Unit in Room 18022 and stamped with the date and time of receipt by 5 p.m. ET on the due date.¹⁴

¹³ See generally 19 CFR 351.303.

¹⁴ See 19 CFR 351.303 (for general filing requirements); Antidumping and Countervailing Duty Proceedings: Electronic Filing Procedures; Administrative Protective Order Procedures, 76 FR 39263 (July 6, 2011).

Unless otherwise extended, Commerce intends to issue the final results of this administrative review, which will include the results of its analysis of issues raised in any briefs, within 120 days of publication of these preliminary results of review, pursuant to section 751(a)(3)(A) of the Act.

Assessment Rates

Upon issuance of the final results, Commerce will determine, and CBP shall assess, antidumping duties on all appropriate entries covered by this review. If Commerce continues to find that Sol-lite, Ri Shen, and Sungold are ineligible for a separate rate in the final results of this review, it will instruct CBP to liquidate all POR entries of subject merchandise from these companies at 151.98 percent, i.e., the rate for the China-wide entity. Commerce intends to issue assessment instructions to CBP 15 days after the publication date of the final results of this review.

Cash Deposit Requirements

The following cash deposit requirements will be effective upon publication of the final results of this administrative review for all shipments of subject merchandise from China entered, or withdrawn from warehouse, for consumption on or after the publication date of the final results of review, as provided for by section 751(a)(2)(C) of the Act: (1) For previously investigated or reviewed Chinese and non-Chinese exporters who are not under review in this segment of the proceeding, but which have a separate rate from a completed prior segment of the proceeding, the cash deposit rate will be the exporter-specific separate rate currently in effect from a previously completed segment of the proceeding; (2) for all Chinese exporters of subject merchandise that have not been found to be entitled to a separate rate, the cash deposit rate will be the rate for the China-wide entity, 151.98 percent; and (3) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties has occurred, and the subsequent assessment of doubled antidumping duties.

Notification to Interested Parties

We are issuing and publishing these results in accordance with sections 751(a)(1) and 777(i)(1) of the Act and 19 CFR 351.213 and 351.221(b)(4).

Dated: February 28, 2019.
Gary Taverman,
Deputy Assistant Secretary for Antidumping and Countervailing Duty Operations, performing the non-exclusive functions and duties of the Assistant Secretary for Enforcement and Compliance.

Appendix

List of Topics Discussed in the Preliminary Decision Memorandum

1. Summary

2. Background

3. Respondent Selection

4. Scope of the Order

5. Preliminary Determination Regarding No Shipments Claim

6. Separate Rates

7. Recommendation

[FR Doc. 2019-04046 Filed 3-5-19; 8:45 am]

BILLING CODE 3510-DS-P